OFFICE OF MANAGEMENT AND BUDGET

Request of the U.S. Intellectual Property Enforcement Coordinator for Public Comments: Legislative Review Related to Enforcement Against Economic Espionage and Trade Secret Theft

AGENCY: Executive Office of the President, Office of Management and Budget, Office of the U.S. Intellectual Property Enforcement Coordinator.

ACTION: Request for written submissions from the public.

SUMMARY: The theft of trade secrets from U.S. corporations can impact national security, undermine U.S. global competitiveness, diminish U.S. export prospects, and put American jobs at risk. Trade secrets play a crucial role in maintaining America's global competitiveness. The Administration will continue to act vigorously to combat the theft of American trade secrets that could be used by foreign companies or foreign governments to gain an unfair commercial advantage over U.S. companies. We need to ensure that our laws are as effective as possible.

Therefore, the Administration is reviewing applicable Federal law related to enforcement against economic espionage and trade secret theft. This review is pursuant to the Administration Strategy on Mitigating the Theft of U.S. Trade Secrets issued on February 20, 2013. The strategy is available at: http://www.whitehouse.gov/sites/default/files/omb/IPEC/admin_strategy_on_mitigating_the_theft_of_u.s._trade_secrets.pdf http:/www.whitehouse.gov/sites/default/files/omb/IPEC/admin_strategy_on_mitigating_the_theft_of_u.s._trade_secrets.pdf.

A related OMB blog post is available at: http://www.whitehouse.gov/blog/2013/02/19/launch-administration-s-strategy-mitigate-theft-us-trade-secrets.

And video of the rollout event is available at: http://www.youtube.com/watch?v=vwgYahyQ754&feature=youtu.be.

In the strategy, the U.S. Intellectual Property Enforcement Coordinator (IPEC) committed to a review of existing laws related to the enforcement of trade secrets to determine if legislative changes are needed to enhance enforcement. IPEC invites public input and participation in shaping the Administration's review. Specifically, we are requesting any recommendations for legislative changes that would enhance enforcement against, or reduce the risk of, the misappropriation of trade secrets for the benefit of foreign competitors or foreign governments.

DATES: Submissions must be received on or before April 22, 2013.

ADDRESSES: All comments should be submitted electronically via http://www.regulations.gov, docket number IPEC-2013-XXXX. Submissions should contain the term “Trade Secret Theft Strategy Legislative Review”.

The regulations.gov Web site is a Federal E-Government Web site that allows the public to find, review and submit comments on documents that have published in the Federal Register and that are open for comment. Submissions filed via the regulations.gov Web site will be available to the public for review and inspection. For this reason, please do not include in your comments information of a confidential nature, such as sensitive personal information or proprietary business information without following the procedure laid out below.

A person requesting that information contained in a comment submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” should be included in the “Type comment and upload file” field. Anyone submitting a comment containing business confidential information must also submit as a separate submission a non-confidential version of the confidential submission indicating where confidential information has been redacted. The non-confidential summary will be placed in the docket and open to public inspection.

If you are unable to provide submissions to regulations.gov, you may contact the U.S. Intellectual Property Enforcement Coordinator at intellectualproperty@omb.eop.gov using the subject line “Trade Secret Theft Strategy Legislative Review” or (202) 395-1808 to arrange for an alternate method of transmission.

FOR FURTHER INFORMATION CONTACT: Office of the U.S. Intellectual Property Enforcement Coordinator, at intellectualproperty@omb.eop.gov or (202) 395-1808.

Victoria A. Espinel,
United States Intellectual Property Enforcement Coordinator, Executive Office of the President.

[FR Doc. 2013-06226 Filed 3-18-13; 8:45 am]

BILLING CODE P